DEPARTMENT OF HEALTH AND HUMAN SERVICES

National Institutes of Health

National Institutes of Mental Health; Amended Notice of Meeting

Notice is hereby given of a change in the meeting of the National Institute of Mental Health Special Emphasis Panel, October 24, 2000, 8:30 AM to October 25, 2000, 5 PM, Ramada Inn, 8400 Wisconsin Avenue, Bethesda, MD 20814 which was published in the Federal Register on October 17, 2000, 65 FR 61346.

The meeting will be held at the same place on October 24, 2000, from 8:30 AM to 3 PM and reconvene that day at 3:30 PM to recess and then the meeting will reconvene on October 25, 2000, at 8:30 AM to adjournment. The meeting is closed to the public.

Dated: October 24, 2000.
LaVerne Y. Stringfield,
Director, Office of Federal Advisory Committee Policy.

[FR Doc. 00-28114 Filed 11-01-00; 8:45 am]

BILLING CODE 4140-01-M